DEPARTMENT OF THE INTERIOR

Bureau of Land Management

[CA-670-1220]

El Centro Resource Area, CA; Supplementary Rules

The primary purpose of these supplementary rules is to prohibit removing of trash from trash receptacles on public lands in the El Centro Resource Area.

AGENCY: Bureau of Land Management, Interior.

ACTION: Establishment of supplementary rule.

LOCATION: All public lands in the El Centro Resource Area east of the boundary line starting at:

T8S R3E Sec. 36 SE corner;

southerly to T9S R4E Sec. 30 NW corner;

easterly to T9S R4E Sec. 28 NE corner;

southerly to T9S R4E Sec. 33 SE corner;

westerly to T9S R4E Sec. 31 SW corner;

southerly to T15S R4E Sec. 31 NW corner;

southeasterly to T18S R8E Sec. 7 SW corner; and all public land to the east.

SUMMARY: Over the past several years individuals or groups of people have developed the routine of removing materials from the trash receptacles throughout the resource area in order to recycle them. In doing so they regularly setup camp next to the trash receptacles, prevent people from depositing trash into the receptacle and have been involved in several disputes involving the receptacles. These actions have increased the amount of trash deposited outside the receptacles on public lands and has increased the workload for law enforcement and other staff personnel in monitoring the trash collection. Therefore; the following rules shall apply:

No person shall:

1. Remove trash from the interior of the trash receptacles.

2. Enter trash receptacles.

3. Open doors of trash receptacles.

4. Loiter by trash receptacles for more than fifteen minutes within four consecutive hours.

5. Interfere with the depositing of trash into the trash receptacle.

6. Solicit trash without proper permit.

7. Stack debris or cause the stacking of debris around the exterior of the trash receptacle.

DATES: These supplementary rules are effective April 24, 2000 and will remain in effect until rescinded or modified by the authorized officer. You may comment on the supplementary rules until May 24, 2000. If necessary, we will modify the rules after that time.

ADDRESSES: Send comments to El Centro Field Office, 1661 S. Fourth St., El Centro, CA 92243.

FOR FURTHER INFORMATION CONTACT: Chief Ranger Robert Zimmer, Bureau of Land Management, El Centro Field Office (760) 337-4407.

SUPPLEMENTARY INFORMATION: The authority for these rules are provided in 43 CFR 8365.1-6. Violation of these regulations is punishable by a fine not to exceed $100,000.00 and/or imprisonment not to exceed 12 months.

Dated: March 27, 2000.
Elayn Briggs,
Acting Field Office Manager.

[FR Doc. 00-8825 Filed 4-21-00; 8:45 am]

BILLING CODE 4310-84-P